Proclamation 7411 of March 1, 2001

Women's History Month, 2001

By the President of the United States of America

A Proclamation

In 1845, journalist and author Margaret Fuller laid out her hope for the future of this Nation's women: “We would have every arbitrary barrier thrown down. We would have every path laid open to women as freely as to men. If you ask me what offices they may fill, I reply—any, I do not care what case you put; let them be sea captains, if you will.”

More than 150 years later, we are closer than ever to realizing Margaret Fuller's dream. Women account for nearly half of all workers. Today, women are “captains” of their own destinies, and they will continue to help shape our Nation's future. Women hold 74 seats in the United States Congress, more than at any time in our country's history, and women own more than 9 million businesses employing more than 27.5 million workers. Through their tireless service on a daily basis, the women of our Nation have woven the fabric of families and communities. They contribute immeasurably through faith-based and community organizations.

Our Nation's women could not be where they are—nor could our country be where it is—without the strength and courage, wisdom and persistence of those who preceded them. America has been blessed with women like Harriet Beecher Stowe, Susan B. Anthony, and Jane Addams, all of whom refused to accept oppression as inevitable. Female political leaders including Margaret Chase Smith and Eleanor Roosevelt forever changed the face of American government. Women have played a vital role in educating our Nation: Mary Lyon, Dorothea Dix, Elizabeth Blackwell, and Mary McLeod Bethune all fought history and stereotypes to become scholars in their own right and pass their knowledge to subsequent generations. Similarly, female authors such as Anne Bradstreet, Emily Dickinson, Pearl Buck, and Zora Neale Hurston represent only a small sample of the many women who have contributed to the American literary canon.

Our Nation boasts a rich history of women whose heroic achievements speak to the sense of excellence, potential, and patriotism shared by all Americans. Anna Warner Bailey's and Clara Barton's courage in war has inspired generations of men and women called upon to fight for America. The fortitude of spirit displayed by Helen Keller, Amelia Earhart, and Wilma Rudolph has made them role models both here and abroad. Finally, from the sacrifice of mothers and grandmothers to the dedication of successful women in business, government, and charitable work, the legacy of women in America gives all young people in this country the impetus to dream without limits.

NOW, THEREFORE, I, GEORGE W. BUSH, President of the United States of America, by virtue of the authority vested in me by the Constitution and laws of the United States, do hereby proclaim March 2001 as “Women's History Month.” I call upon all the people of the United States to observe this month with appropriate ceremonies and activities and to remember their contributions throughout the year.

IN WITNESS WHEREOF, I have hereunto set my hand this first day of March, in the year of our Lord two thousand one, and of the Independence of the United States of America the two hundred and twenty-fifth.

B

[FR Doc. 01-5670

Filed 3-5-01; 11:47 am]

Billing code 3195-01-P